DEPARTMENT OF TRANSPORTATION

Federal Railroad Administration

[Docket Number FRA-2021-0011]

Notice of Application for Approval of Discontinuance or Modification of a Railroad Signal System

Under part 235 of title 49 Code of Federal Regulations (CFR) and 49 U.S.C. 20502(a), this document provides the public notice that on January 14, 2021, Union Pacific Railroad Company (UP) petitioned the Federal Railroad Administration (FRA) seeking approval to discontinue or modify a signal system. FRA assigned the petition Docket Number FRA-2021-0011.

Applicant: Union Pacific Railroad Company, Gregory M. Richardson, General Director—Train Control Systems, 1400 Douglas Street—MS 0480, Omaha, NE 68179.

Specifically, UP requests permission to discontinue all automatic train control (ATC) and automatic cab signal (ACS) systems in service on UP on a segment-by-segment basis, commensurate with progress on completion of work to equip certain hand-operated switches in ATC/ACS territories as described in a plan submitted to FRA in December 2019. UP states that plan described the nature of the work and the safety benefits provided, and it was acknowledged by FRA in June 2020. UP explains a detailed schedule of this work is provided to FRA monthly under separate correspondence, and the work is planned to be completed during 2021.

UP states the reason for discontinuance is that the operation of positive train control (PTC) in conjunction with both the equipping of non-electrically locked switches for PTC communication and the promulgation of operating rules governing operations in the case of PTC failures provide a level of safety exceeding that provided solely by the use of ATC/ACS systems. Since 2017, pursuant to provisions of the waiver in Docket Number FRA-2016-0108, UP has operated PTC in lieu of ATC/ACS in certain territories. Due to that waiver, the existing ATC and ACS systems have been largely unutilized for some time.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by March 15, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2021-01952 Filed 1-28-21; 8:45 am]

BILLING CODE 4910-06-P